DEPARTMENT OF TRANSPORTATION

Pipeline and Hazardous Materials Safety Administration

Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before October 6, 2011.

Address Comments To: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://regulations.gov.

This notice of receipt of applications for modification of special permit is published in accordance with Part 107 of the Federal hazardous materials transportation law (49 U.S.C. 5117(b), 49 CFR 1.53(b)).

Dated: September 14, 2011.
Donald Burger,
Chief, General Approvals and Permits.

Application No. | Docket No. | Applicant | Regulation(s) affected | Nature of special permit thereof
11516-M |  | The Testor Corporation, Rockford, IL | 49 CFR 173.306(a)(3) | To modify the special permit to authorize an additional Division 2.1 material.
12412-M |  | FMC Corporation, Philadelphia, PA | 49 CFR 177.834(h); 172.203(a); 172.302(c) | To modify the special permit to allow hoses to remain attached to discharge outlets while in transportation.
14372-M |  | Kidde Aerospace and Defense, Wilson, NC | 49 CFR 173.301(a)(1); 173.304 | To modify the special permit to add additional cylinders and to allow production markings to be obliterated as part of the retest of those cylinders.
14808-M |  | Amtrol, Inc., West Warwick, RI | 49 CFR 178.51(b), (f)(1) and (2) and (g) | To modify the special permit to authorize a longer time between requalification testing.

[FR Doc. 2011-24006 Filed 9-20-11; 8:45 am]

BILLING CODE 4910-60-M